ENVIRONMENTAL PROTECTION AGENCY

40 CFR Part 52

[EPA-R05-OAR-2017-0066; EPA-R05-OAR-2017-0067; FRL-9960-05-Region 5]

Air Plan Approval; Minnesota and Michigan; Regional Haze SIP; FIP for Regional Haze; Final Action on Petitions for Reconsideration

AGENCY: Environmental Protection Agency (EPA).

ACTION: Notification of action denying petitions for reconsideration.

SUMMARY: The Environmental Protection Agency (EPA) is providing notice of its denials of petitions for reconsideration of rules addressing regional haze planning requirements for the States of Michigan and Minnesota. Specifically, on November 26, 2013, the United States Steel Corporation (U.S. Steel) petitioned EPA to reconsider and stay the final rulemaking captioned “Approval and Promulgation of Air Quality Implementation Plans; States of Minnesota and Michigan; Regional Haze State Implementation Plan; Federal Implementation Plan for Regional Haze” published on February 6, 2013, as well as the final rulemaking captioned “Approval and Promulgation of Air Quality Implementation Plans; States of Michigan and Minnesota; Regional Haze,” published on September 30, 2013. Further, on June 13, 2016, U.S. Steel petitioned EPA to reconsider and stay the final rulemaking captioned “Air Plan Approval; Minnesota and Michigan; Revision to 2013 Taconite Federal Implementation Plan Establishing BART for Taconite Plants,” published on April 12, 2016. EPA has denied the petitions by final action signed January 18, 2017, for reasons that EPA explains in the document denying U.S. Steel's petitions.

DATES: December 4, 2017.

ADDRESSES: EPA has established dockets for these actions under EPA-R05-OAR-2017-0066 for the Petition to Reconsider the Original 2013 Taconite FIP and EPA-R05-OAR-2017-0067 for the Petition to Reconsider the 2016 Revisions to the Taconite FIP. These dockets include the petitions for reconsideration, EPA's response, and other related documents. All documents are listed on the www.regulations.gov Web site. Although listed in the index, some information is not publicly available, i.e., Confidential Business Information (CBI) or other information whose disclosure is restricted by statute. Certain other material, such as copyrighted material, is not placed on the Internet and will be publicly available only in hard copy form. Publicly available docket materials are available either electronically through www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Steven Rosenthal, Environmental Engineer, at (312) 886-6052 before visiting the Region 5 office.

FOR FURTHER INFORMATION CONTACT: Steven Rosenthal, Environmental Engineer, Air Planning and Maintenance Section, at 312-886-6052, rosenthal.steven@epa.gov or at Air Programs Branch (AR-18J), Environmental Protection Agency, Region 5, 77 West Jackson Boulevard, Chicago, Illinois 60604.

SUPPLEMENTARY INFORMATION: Section 307(b)(1) of the Clean Air Act indicates which Federal Courts of Appeal have venue for petitions for review of final actions by EPA. This action pertains to facilities in Minnesota and is not based on a determination of nationwide scope or effect. Thus, under section 307(b)(1), any petitions for review of EPA's action denying the U.S. Steel petition for reconsideration must be filed in the Court of Appeals for the Eighth Circuit on or before February 2, 2018.

Dated: February 28, 2017.
Robert Kaplan,
Acting Regional Administrator, Region 5.

Editorial note: This document was received for publication by the Office of the Federal Register on November 28, 2017.

[FR Doc. 2017-25946 Filed 12-1-17; 8:45 am]

BILLING CODE 6560-50-P